DEPARTMENT OF COMMERCE

International Trade Administration

U.S. Education Mission to India

AGENCY: International Trade Administration, Department of Commerce.

ACTION: Notice.

Mission Description

The United States Department of Commerce, International Trade Administration, U.S. Commercial Service is organizing an education industry trade mission to India (New Delhi, Chennai, and Mumbai) from October 10-15, 2011. This mission will include representatives from graduate programs, 4-year undergraduate programs and state study consortia whose members are appropriately accredited by one of the seven regional accrediting bodies. This mission will seek to connect United States education institutions to potential students, university/institution partners and education consultants in India. The mission will include one-on-one appointments with potential partners, embassy briefings, student fairs and networking events in New Delhi, Chennai and Mumbai, three of the top cities for recruiting Indian students to the United States.

Commercial Setting

There are several types of opportunities for U.S. universities and institutions of higher learning in India: (1) Attracting Indian students to the United States and (2) establishing a campus in India to offer courses and programs in India and (3) online training programs. The mission will be open to regionally accredited United States educational institutions at the 4-year undergraduate level and above that wish to either attract students to the United States or meet with potential partners for collaboration in India.

For the eighth consecutive year, Indian students constitute the largest group of international students studying in the United States, with a total Indian student population in the United States of 103,260, a 9.2% increase from 2008. Most Indian students seeking international education choose U.S. universities and the majority (72%) of Indian students in the United State are studying at the graduate level. However, we expect an increasing amount of undergraduate students due to the abundance of “international” primary and secondary schools throughout India and the influx of India-born parents who return to India with U.S.-educated children. India's huge youth population, estimated at 315 million between the ages of 10 and 24, will continue to create a large demand for higher education. There are approximately 9.5 million students enrolled in higher education in India compared to that of the United States, where 19.1 million U.S. citizens are enrolled. As the number of students enrolled in higher education institutions in India is projected to rise to 11 million over the next three years, there are increasing doubts that India will have enough purely domestic education institutions to meet this demand. The United States, with over 4,000 accredited institutions of higher learning, has the capacity to offer access to high quality education to students in a broad range of fields. Employers in India have stressed the importance of developing a workforce equipped with adequate technical, teamwork and communication skills.

India offers substantial education opportunities for U.S. universities and other institutions of higher learning to establish schools, programs and curriculum in India. The Government of India (GOI) introduced milestone legislation to Parliament last year titled, the Foreign Educational Institutions (Regulation of Entry and Operation) Bill 2010. Once passed the legislation should allow for foreign education providers to set up campuses in the country—independently and jointly—and offer degrees to Indian students. Experts estimate the Indian education market has a potential value of $28 billion.

The first stop on the mission itinerary is New Delhi, the capital city of India. This visit would give the delegates an opportunity to directly interact with officials from the Government of India regarding education policies. Many of the finest educational institutions of India are located in Delhi. There are 15 universities and nearly 85 colleges, 55 management institutes, 7 medical colleges, 10 engineering colleges, a large number of computer institutes, 314 higher secondary schools, hundreds of preparatory schools and a good number of other institutes spread across the city. The Delhi NCR (National Capital Region) is the hub for education in the northern India and would attract institutions from other cities in the north to come and meet with the U.S. institutions. New Delhi would offer the delegates briefings, one-on-one meetings and a student fair.

Then the group will travel to Chennai, a booming organized education center in India. Chennai, the capital of the state of Tamil Nadu, is India's 3rd largest metropolis and is gaining recognition as a dynamic trade and education destination for many U.S. universities. The mission participants will have the opportunity to participate in briefings, student recruitment fairs and one-on-one meetings. One of the largest “knowledge communities” in the Asia Pacific region, Chennai boasts 350 engineering colleges, 230 polytechnics and 12 deemed (“officially accredited”) universities offering technical and medical education. Around 7,040 students went to the United States from the Chennai region to pursue higher education in 2009.

Finally, the delegation will visit Mumbai, the capital of the state of Maharashtra, to participate in matchmaking meetings and student recruitment fair. US&FCS Mumbai has been approached by several private equity companies, colleges and large companies interested in investing in the education sector and are seeking U.S. collaborations. Located near Mumbai, the city of Pune is ranked as the top destination for education in India. In addition, while Maharashtra possesses the highest percentage of universities in India (11.3%), it also has the highest number of student enrollments in India in higher education, around 1.5 million.

Mission Goals

The goals of the United States Education Mission to India are: (1) To gain market exposure and introduce participants to the vibrant Indian market in the three main metropolitan cities of New Delhi, Chennai and Mumbai; (2) assess current and future business prospects by establishing valuable contacts with prospective consultants, students and educational institutions, and (3) develop market knowledge and relationships leading to student recruitment and potential partnerships.

Mission Scenario

Participation in the mission will include the following:

• Pre-travel briefings/webinars;

• Embassy/consulate and industry briefings;

• Pre-scheduled meetings with university heads and educational consultants in New Delhi, Chennai, and Mumbai;

• Airport transfers in New Delhi, Chennai, and Mumbai;

• Site visit in New Delhi/Chennai.

The precise schedule will depend on the specific goals and objectives of the mission participants.

Timetable

Day of week | Date | Activity
Sunday | October 9 | Proposed Mission Schedule—October 10-15, 2011 Arrive in New Delhi (evening arrival). Check into hotel.
Monday | October 10, New Delhi | Mission Meetings Officially Start—October 10-11, 2011: Embassy Briefing. One-on-one matchmaking meetings. Luncheon hosted by TBD. Student fair. Embassy reception.
Tuesday | October 11 Chennai | Arrive in Chennai on October 11 afternoon and check into hotel: Half day site visit—to be finalized. Late afternoon departure for Chennai. One-on-one business appointments.
Wednesday | October 12 Chennai | One-on-one matchmaking meetings. Luncheon hosted by TBD. Student fair (4-8 pm).
Thursday | October 13 | Half day site visit—to be finalized. Late afternoon depart for Mumbai. Arrive in Mumbai and check into hotel.
Friday | October 14 Mumbai | One-on-one matchmaking meetings. Luncheon hosted by TBD. Student fair. Departure to USA—evening.
*Note: The final schedule and potential site visits will depend on the availability of local government and business officials, specific goals of mission participants, and air travel schedules.

Participation Requirements

All parties interested in participating in the Mission to India must complete and submit an application for consideration by the Department of Commerce. All applicants will be evaluated on their ability to meet certain conditions and best satisfy the selection criteria as outlined below. The mission will open on a first come first served basis to 20 regionally accredited U.S. universities as well as study consortia whose members are also regionally accredited.

Fees and Expenses

* An SME is defined as a firm with 500 or fewer employees or that otherwise qualifies as a small business under SBA regulations (see http://www.sba.gov/services/contractingopportunities/sizestandardstopics/index.html ). Parent companies, affiliates, and subsidiaries will be considered when determining business size. The dual pricing reflects the Commercial Service's user fee schedule that became effective May 1, 2008 (see http://www.export.gov/newsletter/march2008/initiatives.html for additional information).

After a university or consortium has been selected to participate on the mission, a payment to the Department of Commerce in the form of a participation fee is required. The participation fee is $3420 for one principal representative from each regionally accredited educational institution. The fee for each additional representative is $750. Expenses for lodging, some meals, incidentals, and all travel (except for transportation to and from airports in-country, previously noted) will be the responsibility of each mission participant.

Conditions for Participation

• An applicant must submit a timely, completed and signed mission application and supplemental application materials, including adequate information on courses offerings, primary market objectives, and goals for participation.

Selection Criteria for Participation

• Consistency of the applicant's goals and objectives with the stated scope of the mission;

• Timeliness of signed application and participation agreement by institution;

• Applicant's potential for doing business in India, including likelihood of service exports (education)/knowledge transfer resulting from the mission.

Referrals from political organizations and any documents containing references to partisan political activities (including political contributions) will be removed from an applicant's submission and not considered during the selection process.

Timeline for Recruitment and Applications

Mission recruitment will be conducted in an open and public manner, including publication in the Federal Register, posting on the Commerce Department trade mission calendar (http://www.trade.gov/trade-missions) and other Internet web sites, press releases to general and trade media, direct mail, notices by industry trade associations and other multiplier groups, and publicity at industry meetings, symposia, conferences, and trade shows. Recruitment for the mission will begin immediately and conclude no later than August 1, 2011. The mission will be open on a first come first served basis. Applications received after that date will be considered only if space and scheduling constraints permit.

Contacts

U.S. Commercial Service in India:

Sathya Prabha, Commercial Assistant, Hyderabad, Tel: (91-40) 2330 4025, Sathya.prabha@trade.gov.

U.S. Export Assistance Center:

Koreen Grube, International Trade Specialist, Tel: 414-217-8333, E-mail: Koreen.Grube@trade.gov.

Matt Baker, International Trade Specialist, Tel: 520-470-5809, E-mail: Matt.Baker@trade.gov.

Elnora Moye,
U.S. Department of Commerce, International Trade Administration.

[FR Doc. 2011-7472 Filed 3-29-11; 8:45 am]

BILLING CODE 3510-FP-P